DEPARTMENT OF TRANSPORTATION

Federal Aviation Administration

14 CFR Part 93

[Docket No. FAA-2022-1029; Amdt. No. 93-103]

RIN 2120-AL77

Extension of the Requirement for Helicopters To Use the New York North Shore Helicopter Route

AGENCY: Federal Aviation Administration (FAA), Department of Transportation (DOT).

ACTION: Interim final rule with request for comment.

SUMMARY: This interim final rule with request for comment amends the expiration date of the rule requiring pilots operating civil helicopters under Visual Flight Rules to use the New York North Shore Helicopter Route when operating along the northern shoreline of Long Island, New York. The current rule expires on August 5, 2022. The FAA finds it necessary to extend the rule for four years.

DATES: Effective July 29 2022 through July 29, 2026.

Send comments on or before August 29, 2022.

ADDRESSES: Send comments identified by docket number FAA-2022-1029 using any of the following methods:

• Federal eRulemaking Portal: Go to https://www.regulations.gov/ and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at (202) 493-2251.

Privacy: In accordance with 5 U.S.C. 553(c), DOT solicits comments from the public to better inform its rulemaking process. DOT posts these comments, without edit, including any personal information the commenter provides, to https://www.regulations.gov, as described in the system of records notice (DOT/ALL-14 FDMS), which can be reviewed at https://www.dot.gov/privacy.

Docket: Background documents or comments received may be read at https://www.regulations.gov/ at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: Brian Konie, Airspace Rules and Regulations Team AJV-P21, Mission Support Services, Air Traffic Organization, Federal Aviation Administration, 800 Independence Avenue SW, Washington, DC 20591; telephone (202) 267-0745; email 9-NATL-NY-NorthShore@faa.gov.

SUPPLEMENTARY INFORMATION:

Good Cause for Immediate Adoption

Title 5 U.S.C. 553(b)(B) authorizes agencies to dispense with notice and comment procedures for rules when the agency for “good cause” finds that those procedures are “impracticable, unnecessary, or contrary to the public interest.” Additionally, 5 U.S.C. 553(d) generally requires that the publication or service of a substantive rule shall be made not less than 30 days before its effective date, but section 553(d)(3) provides an exception to this general requirement when the agency finds good cause to waive the delay in the effective date.

The East Hampton Town Airport (previously the East Hampton Airport) is the airport of choice for those traveling to the Hamptons because of its location and available services at the airport, particularly fueling. Other airports in the vicinity of the Hamptons include Francis S. Gabreski Airport (KFOK), a county-owned, joint civil-military airport; Montauk Airport (KMTP), a privately owned, public use airport; and Southampton Heliport (87N). Although Gabreski Airport is 26 miles from central East Hampton, limited road capacity (one lane in each direction) and congestion during the summer months make it a less attractive destination airport. Montauk Airport has a shorter runway and does not provide aircraft services, including fueling. The Southampton Heliport consists of a single helipad with no room for parking aircraft and provides neither fueling nor other aircraft services.

On September 26, 2021, East Hampton Airport's contractual grant obligations expired.¹ The FAA received written notice on January 20, 2022, from the Town of East Hampton, New York, followed by an amended request on February 17, 2022, advising that effective May 17, 2022, the Town would close the public-use East Hampton Airport and activate a new private-use, prior permission required, airport at the same location on May 19, 2022.² The FAA published the notice of closure of the public-use of East Hampton Airport in the Federal Register on April 15, 2022 (87 FR 22617). Subsequently, the FAA began deactivating the East Hampton Airport and taking the necessary steps to activate the East Hampton Town Airport.³ On May 19, 2022, the new private-use, prior permission required, East Hampton Town Airport was activated.⁴

¹ Grant obligations are assurances that an airport provides in exchange for receiving federal grants to improve the airport. Among the grant assurances are prohibitions on restricting access to the airport based on noise and the obligation to keep the airport open until the grant obligations expire.

² 87 FR 22617 (April 15, 2022). Private-use airports may be able to impose limits on operations (e.g., limits on the number of operations per day or limits on the time of day that aircraft may operate) that public-use airports cannot impose without complying with the Aircraft Noise and Capacity Act of 1990 (49 U.S.C. 47521 et seq.) See also implementing regulations at 14 CFR part 161.

³ Letter from Marie Kennington-Gardiner, Regional Administrator, Office of the Regional Administrator Eastern Region, Federal Aviation Administration dated May 17, 2022, to Andrew Barr, Cooley LLP, available at http://ehamptonny.gov/786/2022-Airport-News-and-Decision-Making.

⁴ In order to deactivate (i.e., close) an airport for a period of one year or more, the airport operator must file a notice with the FAA of closing 90 days prior to the intended closing date. The FAA then posts a notice in the Federal Register announcing the closure in some cases. In order to activate (i.e., open) an airport, the potential operator must file a notice 90 days in advance of construction, allowing the FAA to conduct an airport airspace analysis to determine if the proposed airport would impact traffic patterns of neighboring airports; would impact the existing airspace structure and projected programs of the FAA; along with impacts of known obstructions within the affected area, and on file with the FAA, on the proposed airport. Public-use airports and some private-use airports are then charted on FAA-issued aeronautical charts for the area in which the airport is located. The FAA determined that the East Hampton Town Airport should be charted. The Airport was charted on the New York Area charts, the New York Area Sectional Chart, the New York Terminal Area Chart, and the New York Helicopter Chart, on May 19, 2022.

Notwithstanding the FAA's actions to deactivate the public-use East Hampton Airport and activate the private-use East Hampton Town Airport, the East Hampton Town Airport has not begun operating as a private-use airport. On May 16, 2022, the New York State Supreme Court issued temporary restraining orders (TRO) prohibiting the Town from “continuing to take any steps to effectuate the closure of the airport, the conversion of the airport to a `private use' facility, or the operation of the airport on a `prior permission required' basis” in response to several lawsuits.⁵ To effectuate the court's orders and in light of the FAA's inability to safely forestall several aspects of the deactivation of a public-use airport process,⁶ the private-use, prior permission required, East Hampton Town Airport is currently operating as if it was a public-use airport. Additionally, on June 8, 2022, the Town indicated that it may close the airport permanently.⁷

⁵ See East End Hangars, Inc. v. Town of East Hampton, No. 602799/2022 (N.Y. Sup. Ct. Suffolk Cty.); The Coalition to Keep East Hampton Airport Open, Ltd. v. Town of East Hampton, New York, No. 602801/2022 (N.Y. Sup. Ct. Suffolk Cty.); and, Blade Air Mobility, Inc. v. Town of East Hampton, No. 602802/2022 (N.Y. Sup. Ct. Suffolk Cty.) available at http://ehamptonny.gov/786/2022-Airport-News-and-Decision-Making. Separately, on May 14, 2022, the National Business Aviation Association joined with several other stakeholders in filing legal challenges to planned closure of the East Hampton Airport in the U.S. District Court for the Eastern District of New York. Friends of the East Hampton Airport, Inc. Analar Corporation, Associated Aircraft Group, Inc. Eleventh Street Aviation LLC, Helicopter Association International, Inc. Heliflite Shares LLC,. Liberty Helicopters, Inc. Sound Aircraft Services, Inc., and National Business Aviation Association, Inc. v. Town of East Hampton, No. 15-cv-2246-JS-ARL (E.D.N.Y.).

⁶ By the time the FAA received notice of the TRO on May 16, 2022, it was too late to change or cancel the new charts. As a result, the airport identifier for the public-use East Hampton Airport no longer existed on May 19, 2022, and was replaced by the identifier for the private-use East Hampton Town Airport. Pilots are not able to file flight plans to the public-use airport. The public instrument procedures for the public-use airport were decommissioned and replaced by special instrument procedures. Air Traffic Controllers had been trained on new procedures for dealing with the private-use airport; retraining the controllers in the formerly-used procedures would cause confusion, which would compromise safety.

⁷ https://www.easthamptonstar.com/government/202268/if-town-cant-change-airport-it-may-close-it.

Since the time that East Hampton Airport's contractual obligations expired in 2021, the airport's operating status has remained in flux. Because the East Hampton Airport is the airport of choice for those traveling to the Hamptons, a change in the airport's operating status could conceivably have significant effects on helicopter air travel in the New York North Shore area to the east end of Long Island. For example, if the East Hampton Airport is changed to a private-use airport or closed permanently, much of the traveling public currently using the New York North Shore Helicopter Route may need to find an alternative means of traveling to their destinations in Long Island. Those alternative means could involve the use of a different air travel route or surface transportation, which would decrease the amount of air traffic using the New York North Shore Helicopter Route. The ongoing uncertainty regarding the airport's operating status prevents the FAA and the public in assessing the effects of any changes that the East Hampton Town Airport may implement that might influence potential modifications to the New York North Shore Helicopter Route, prior to the Rule's August 5, 2022, expiration date.

Further, given that there is no available timeline for resolution of the East Hampton Town Airport's operating status and subsequent adjustments operators may make, the FAA expects a 4-year extension to provide FAA with sufficient time for such issues to resolve to evaluate any new traffic redirection and consider that evaluation in assessing the current rule.

Therefore, in light of the pending expiration date, to prevent confusion among pilots using the Route and avoid disruption of the current operating environment, the FAA finds notice and comment impractical and that good cause exists to make this interim final rule extending the expiration date of the Rule, effective in less than 30 days.

Authority

The FAA's authority to issue rules on aviation safety is found in Title 49 of the United States Code. Subtitle I, Section 106 describes the authority of the FAA Administrator. Subtitle VII, Aviation Programs, describes in more detail the scope of the agency's authority.

The FAA's authority for this rule is contained in 49 U.S.C. 40103 and 44715. Under section 40103(b)(2), the Administrator of the FAA has authority to prescribe air traffic regulations on the flight of aircraft (including regulations on safe altitudes) for, among other purposes, navigating aircraft and protecting individuals and property on the ground. In addition, section 44715(a), provides that, to relieve and protect the public health and welfare from aircraft noise, the Administrator of the FAA, has the authority to prescribe regulations to control and abate aircraft noise.

I. Background

In 2012, in response to concerns from local residents regarding noise from helicopters operating over Long Island, the FAA issued the New York North Shore Helicopter Route final rule (77 FR 39911, July 6, 2012). The FAA codified the final rule in subpart H of part 93 of title 14 of the Code of Federal Regulations (14 CFR). The rule requires pilots operating civil helicopters under Visual Flight Rules (VFR) over the north shore of Long Island, between the Visual Point Lloyd Harbor (VPLYD) waypoint and Orient Point (VPOLT), to use the North Shore Helicopter Route as published in the New York Helicopter Chart (Chart). Subpart H was promulgated to maximize use of the Route, as published per the Chart, to secure and improve upon decreased levels of noise that had been voluntarily achieved. Under subpart H, pilots are permitted to deviate from the Route and altitude requirements when necessary for safety, weather conditions, or transitioning to or from a destination or point of landing. Subpart H is based on a voluntary VFR route that was developed by the FAA, working with the Eastern Region Helicopter Council. The voluntary route originally was added to the Chart on May 8, 2008. The rule has been extended three times without substantive change.⁸ It is currently in effect through August 5, 2022.

⁸ The Extension of the Expiration Date of the New York North Shore Helicopter Route, 79 FR 35488, (June 23, 2014); Extension of the Requirement for Helicopters to Use the New York North Shore Helicopter Route, 81 FR 48323 (June 25, 2016); and Extension of the Requirement for Helicopters To Use the New York North Shore Helicopter Route, 85 FR at 47897 (August 7, 2020).

II. Discussion of Interim Final Rule

This interim final rule extends, for an additional four years, the requirement for pilots of civil helicopters operating under VFR to use the North Shore Helicopter Route when transiting along the north shore of Long Island.

In the 2020 final rule extending subpart H for two years, the FAA explained that it needed to assess route modifications identified by commenters in response to the FAA's request for comments and public meetings regarding subpart H in accordance with section 182 of the FAA Reauthorization Act of 2018 ⁹ and whether a new or modified route should be created and incorporated into regulation. Additionally, the FAA stated that it required time to evaluate the effects of the all-water route around Orient Point resulting from the voluntary agreement by the Eastern Region Helicopter Council and the effects of any changes implemented by East Hampton Airport once it ceased to be a grant obligated airport.¹⁰ However, prior to completing these assessments, the operating status of the East Hampton Town Airport must be resolved.

⁹ Section 182 of the FAA Reauthorization Act of 2018 (Pub. L. 115-254, October 5, 2018) directed the FAA to hold a public hearing to solicit feedback on subpart H of 14 CFR part 93, from impacted communities and to provide notice of, and an opportunity for, at least 60 days of public comment with respect to subpart H. The FAA invited responses to four questions; including, should subpart H be extended, modified, or allowed to expire in 2020. Virtually all of the comments the FAA received in response to this question suggested that subpart H should either expire or be modified. See Request for Comments on Requirement for Helicopters To Use the New York North Shore Helicopter Route, 83 FR 55133 (Nov. 2, 2018), Notification of Public Meetings on Requirement for Helicopters To Use the New York North Shore Helicopter Route, 83 FR 55134 (Nov. 2, 2018), and Notification of Replacement Public Meeting on Requirement for Helicopters To Use the New York North Shore Helicopter Route, 83 FR 63817 (Dec. 12, 2018).

¹⁰ The FAA notes that operators voluntarily agreed to fly the all-water route around Orient Point, and it appears that many operators, while continuing to comply with the regulation, have ceased flying the all-water route.

Extending the requirement for helicopters to use the North Shore Helicopter Route for a four-year period will continue to foster maximum use of the Route and avoid disruption of the current operating environment while the East Hampton Town Airport's operating status is resolved and then allow the FAA a sufficient period of time to collect and assess relevant data.

III. Regulatory Notices and Analyses

A. Regulatory Evaluation

Changes to Federal regulations must undergo several analyses. First, Executive Orders 12866 and 13563 direct that each Federal agency shall propose or adopt a regulation only upon a reasoned determination that the benefits of the intended regulation justify its costs. Second, the Regulatory Flexibility Act of 1980 (Pub. L. 96-354), as codified in 5 U.S.C. 603 et seq., requires agencies to analyze the economic impact of regulatory changes on small entities. Third, the Trade Agreements Act of 1979 (Pub. L. 96-39), as codified in 19 U.S.C. Chapter 13, prohibits agencies from setting standards that create unnecessary obstacles to the foreign commerce of the United States. In developing U.S. standards, the Trade Agreements Act requires agencies to consider international standards and, where appropriate, that they be the basis of U.S. standards. Fourth, the Unfunded Mandates Reform Act of 1995 (Pub. L. 104-4), as codified in 2 U.S.C. Chapter 25, requires agencies to prepare a written assessment of the costs, benefits, and other effects of proposed or final rules that include a Federal mandate likely to result in the expenditure by State, local, or tribal governments, in the aggregate, or by the private sector, of $100 million or more annually (adjusted for inflation with base year of 1995). The FAA also analyzes this regulation under the Paperwork Reduction Act. This portion of the preamble summarizes the FAA's analysis of the economic impacts of this final rule.

In conducting these analyses, the FAA has determined this rule is not a significant regulatory action, as defined in section 3(f) of Executive Order 12866. As notice and comment under 5 U.S.C. 553 are not required for this interim final rule, the regulatory flexibility analyses described in 5 U.S.C. 603 and 604 regarding impacts on small entities are not required. This rule will not create unnecessary obstacles to the foreign commerce of the United States. This rule will not impose an unfunded mandate on State, local, or tribal governments, or on the private sector, by exceeding the threshold identified previously.

This interim final rule amends the expiration date of the final rule requiring pilots operating civil helicopters under Visual Flight Rules to use the New York North Shore Helicopter Route when operating along that area of Long Island, New York. As previously discussed, the FAA finds it necessary to extend subpart H for an additional four years to preserve the current operating environment while allowing sufficient time for the FAA to conduct research to assess route modifications identified by commenters and whether a new or modified route could be created and would be appropriate for incorporation into the regulations.

The FAA determined the 2012 final rule would impose minimal costs because many of the existing operators were already complying with the final rule requirements. In addition, the FAA based the 2012 final rule on a voluntary route developed by the FAA working with the Eastern Region Helicopter Council—the FAA added the voluntary route to the New York Helicopter Chart on May 8, 2008. The 2012 final rule also permits deviations from the route for safety, weather conditions, or transitioning to or from a destination or point of landing. The FAA extended the 2012 final rule in 2014, 2016, and 2020 without any substantive change. As this interim final rule further extends the 2012 final rule requirements without change, the FAA expects it will not impose additional costs.

B. Regulatory Flexibility Determination

The Regulatory Flexibility Act (RFA), in 5 U.S.C. 603, requires an agency to prepare an initial regulatory flexibility analysis describing impacts on small entities whenever an agency is required by 5 U.S.C. 553, or any other law, to publish a general notice of proposed rulemaking for any proposed rule. Similarly, 5 U.S.C. 604 requires an agency to prepare a final regulatory flexibility analysis when an agency issues a final rule under 5 U.S.C. 553 after being required by that section or any other law to publish a general notice of proposed rulemaking. The FAA found good cause to forgo prior notice and comment for this rule. As notice and comment under 5 U.S.C. 553 are not required in this situation, the regulatory flexibility analyses described in 5 U.S.C. 603 and 604 are not required.

C. International Trade Impact Assessment

The Trade Agreements Act of 1979 (Pub. L. 96-39) prohibits Federal agencies from establishing standards or engaging in related activities that create unnecessary obstacles to the foreign commerce of the United States. Pursuant to this Act, the establishment of standards is not considered an unnecessary obstacle to the foreign commerce of the United States, so long as the standard has a legitimate domestic objective, such as the protection of safety, and does not operate in a manner that excludes imports that meet this objective. The statute also requires consideration of international standards and, where appropriate, that they be the basis for U.S. standards. The FAA has assessed the potential effect of this interim final rule and determined that subpart H will preserve the current operating environment and is not considered an unnecessary obstacle to foreign commerce.

D. Unfunded Mandates Assessment

Title II of the Unfunded Mandates Reform Act of 1995 (Pub. L. 104-4) requires each Federal agency to prepare a written statement assessing the effects of any Federal mandate in a proposed or final agency rule that may result in an expenditure of $100 million or more (in 1995 dollars) in any one year by State, local, and tribal governments, in the aggregate, or by the private sector; such a mandate is deemed to be a “significant regulatory action.” The FAA currently uses an inflation-adjusted value of $165 million in lieu of $100 million.

This interim final rule does not contain such a mandate. Therefore, the requirements of Title II of the Act do not apply.

E. Paperwork Reduction Act

The Paperwork Reduction Act of 1995 (44 U.S.C. 3507(d)) requires that the FAA consider the impact of paperwork and other information collection burdens imposed on the public. The FAA has determined that there is no new requirement for information collection associated with this interim final rule.

F. International Compatibility and Cooperation

In keeping with U.S. obligations under the Convention on International Civil Aviation, it is FAA policy to conform to International Civil Aviation Organization (ICAO) Standards and Recommended Practices to the maximum extent practicable. The FAA has determined that there are no ICAO Standards and Recommended Practices that correspond to this interim final rule.

G. Environmental Analysis

FAA Order 1050.1F, “Environmental Impacts: Policies and Procedures,” identifies FAA actions that, in the absence of extraordinary circumstances, are categorically excluded from requiring an environmental assessment (EA) or environmental impact statement (EIS) under the National Environmental Policy Act. This rule qualifies for the categorical exclusion in paragraph 5-6.6.f of that Order, which includes “[r]egulations . . . excluding those that if implemented may cause a significant impact on the human environment.” There are no extraordinary circumstances that warrant preparation of an EA or EIS.

IV. Executive Order Determinations

A. Executive Order 13132, Federalism

The FAA has analyzed this interim final rule under the principles and criteria of Executive Order 13132, Federalism. The agency determined that this action will not have a substantial direct effect on the States, or the relationship between the Federal Government and the States, or on the distribution of power and responsibilities among the various levels of government, and, therefore, does not have federalism implications.

B. Executive Order 13211, Regulations That Significantly Affect Energy Supply, Distribution, or Use

The FAA analyzed this interim final rule under Executive Order 13211, Actions Concerning Regulations that Significantly Affect Energy Supply, Distribution, or Use. The agency has determined that it is not a “significant energy action” under the Executive order and it is not likely to have a significant adverse effect on the supply, distribution, or use of energy.

C. Executive Order 13609, Promoting International Regulatory Cooperation

Executive Order 13609, Promoting International Regulatory Cooperation, promotes international regulatory cooperation to meet shared challenges involving health, safety, labor, security, environmental, and other issues and to reduce, eliminate, or prevent unnecessary differences in regulatory requirements. The FAA has analyzed this action under the policies and agency responsibilities of Executive Order 13609, and has determined that this action would have no effect on international regulatory cooperation.

V. How To Obtain Additional Information

A. Comments Invited

The FAA invites interested persons to participate in this rulemaking by submitting written comments, data, or views. The Agency also invites comments relating to the economic, environmental, energy, or federalism impacts that might result from adopting this interim final rule. The most helpful comments reference a specific portion of the rule, explain the reason for any recommended change, and include supporting data. To ensure the docket does not contain duplicate comments, commenters should submit only one time if comments are filed electronically or commenters should send only one copy of written comments if comments are filed in writing.

The FAA will file in the docket all comments it receives, as well as a report summarizing each substantive public contact with FAA personnel concerning this rulemaking. Before acting on this interim final rule, the FAA will consider all comments it receives on or before the closing date for comments. The FAA will consider comments filed after the comment period has closed if it is possible to do so without incurring expense or delay. The Agency may change this interim final rule in light of the comments it receives.

B. Confidential Business Information

Confidential Business Information (CBI) is commercial or financial information that is both customarily and actually treated as private by its owner. Under the Freedom of Information Act (FOIA) (5 U.S.C. 552), CBI is exempt from public disclosure. If your comments responsive to this interim final rule contain commercial or financial information that is customarily treated as private, that you actually treat as private, and that is relevant or responsive to this interim final rule, it is important that you clearly designate the submitted comments as CBI. Please mark each page of your submission containing CBI as “PROPIN.” The FAA will treat such marked submissions as confidential under the FOIA, and they will not be placed in the public docket of this rule. Submissions containing CBI should be sent to the person in the FOR FURTHER INFORMATION CONTACT section of this document. Any commentary that the FAA receives which is not specifically designated as CBI will be placed in the public docket for this rulemaking.

C. Electronic Access and Filing

A copy of this interim final rule, all comments received, any final rule, and all background material may be viewed online at https://www.regulations.gov using the docket number listed above. A copy of this rule will be placed in the docket. Electronic retrieval help and guidelines are available on the website. It is available 24 hours each day, 365 days each year. An electronic copy of this document may also be downloaded from the Office of the Federal Register's website at https://www.federalregister.gov and the Government Publishing Office's website at https://www.govinfo.gov. A copy may also be found at the FAA's Regulations and Policies website at https://www.faa.gov/regulations_policies.

Copies may also be obtained by sending a request to the Federal Aviation Administration, Office of Rulemaking, ARM-1, 800 Independence Avenue SW, Washington, DC 20591, or by calling (202) 267-9677. Interested persons must identify the docket or amendment number of this rulemaking.

All documents the FAA considered in developing this rule, including economic analyses and technical reports, may be accessed in the electronic docket for this rulemaking.

D. Small Business Regulatory Enforcement Fairness Act

The Small Business Regulatory Enforcement Fairness Act (SBREFA) of 1996 requires FAA to comply with small entity requests for information or advice about compliance with statutes and regulations within its jurisdiction. A small entity with questions regarding this document may contact its local FAA official, or the person listed under the FOR FURTHER INFORMATION CONTACT heading at the beginning of the preamble. To find out more about SBREFA, visit https://www.faa.gov/regulations_policies/rulemaking/sbre_act/.

List of Subjects in 14 CFR Part 93

Air traffic control, Airspace, Navigation (air).

The Amendment

In consideration of the foregoing, the Federal Aviation Administration amends chapter I of Title 14 of the Code of Federal Regulations as follows:

PART 93—SPECIAL AIR TRAFFIC RULES

1. The authority citation for part 93 continues to read as follows:

Authority: 49 U.S.C. 106(f), 106(g), 40103, 40106, 40109, 40113, 44502, 44514, 44701, 44715, 44719, 46301.

2. Revise § 93.101 to read as follows:

§ 93.101 Applicability.

This subpart prescribes a special air traffic rule for civil helicopters operating VFR along the North Shore, Long Island, New York, between July 29, 2022, and July 29, 2026.

Issued under authority provided by 49 U.S.C. 106(f), 44701(a), and 44703 in Washington, DC, on
Billy Nolen,
Acting Administrator.

[FR Doc. 2022-16372 Filed 7-27-22; 4:15 pm]

BILLING CODE 4910-13-P